DEPARTMENT OF THE INTERIOR

National Park Service

National Register of Historic Places; Notification of Pending Nominations

Nominations for the following properties being considered for listing in the National Register were received by the National Park Service before December 28, 2002. Pursuant to section 60.13 of 36 CFR part 60 written comments concerning the significance of these properties under the National Register criteria for evaluation may be forwarded by United States Postal Service, to the National Register Historic Places, National Park Service, 1849 C St. NW., 2280, Washington, DC 20240; by all other carriers, National Register of Historic Places, National Park Service, 1201 Eye St. NW., 8th floor, Washington DC 20005; or by fax, (202) 343-1836. Written or faxed comments should be submitted by January 31, 2003.

Patrick Andrus,
Acting Keeper of the National Register of Historic Places.

CALIFORNIA

San Diego County

Canfield—Wright House, 420 Avenida Primavera, Del Mar, 02001747.

GEORGIA

Muscogee County

Hillcrest—Wildwood Circle Historic District, Roughly bounded by Wildwood Ave., 13th and 17th Sts., and Dixon Dr., Columbus, 02001748.

ILLINOIS

Adams County

Lewis Round Barn, 2007 E 1250th St., Mendon, 02001750.

Champaign County

Women's Gymnasium, University of Illinois at Urbana-Champaign, (University of Illinois Buildings designed by Charles A. Platt MPS), 906 S Goodwin Ave., Urbana, 02001751.

Women's Residence Hall—West Residence Hall, University of Illinois at Urbana-Champaign, (University of Illinois Buildings designed by Charles A. Platt MPS), 1111W Nevada St., Urbana, 02001752.

Clark County

First Congregational Church, 202 N 6th St., Marshall, 02001753.

Henry County

West Water Tower and Ground Storage Tank, 310 11th Ave., Orion, 02001754.

Lake County

Griffith, John, Store Building, 103-113 E Scranton Ave., Lake Bluff, 02001755.

Rock Island County

Deere, John, House, 1217 11th Ave., Moline, 02001756.

Schuyler County

White Oak Hall, SE corner Jct. of White Oak and Lower Beardstown Rds., Rushville, 02001757.

Union County

St. Anne's Episcopal Church, 507 S Main St., Anna, 02001758.

Union Lookout, 3/4 mi. S of Jct. Co. Rd. 13 and Trail of Tears State Forest Rd., Jonesboro, 02001759.

Will County

Scutt, Hiram B., Mansion, 206 N Broadway, Joliet, 02001760.

MASSACHUSETTS

Middlesex County

Middlesex Fells Reservation Parkways, (Metropolitan Park System of Greater Boston MPS), E Border Rd., Fellsway E, Fellsway W, Hillcrest Pky., South St., Pond St., S Border Rd., Ravine Rd., and Woodland Rd., Malden, 02001749.

SOUTH CAROLINA

Berkeley County

Cooper River Historic District, (Cooper River MPS), Along the E and W branches of the Cooper R., Moncks Corner, 02001761.

SOUTH DAKOTA

Charles Mix County

Jacobson School, (Schools in South Dakota MPS), 289th St., Armour, 02001762.

Jerauld County

Will, H.P., House, 214 Alene Ave. N, Wessington Springs, 02001763.

Lawrence County

St. Lawrence O'Toole Catholic Church, 618 Main, Central City, 02001764.

Lincoln County

Anderson, Dr. Andrew, House, 416 E 2nd St., Canton, 02001765.

Minnehaha County

Farley-Loetscher Company Building I, 322 and 324 E 8th St., Sioux Falls, 02001766.

McKennan Park Historic Increase (Boundary Increase), Roughly bounded by 1st Ave. S, Phillips Ave., 24th St. E, and 26th St., Sioux Falls, 02001767.

Pennington County

Burlington and Quincy High Line Hill City to Keystone Branch, Along RR right of way from 222 Railroad Ave to Keystone Depot, Hill City, 02001768.

[FR Doc. 03-990 Filed 1-15-03; 8:45 am]

BILLING CODE 4310-70-P